DEPARTMENT OF ENERGY

Federal Energy Regulatory Commission

Combined Notice of Filings

Take notice that the Commission has received the following Natural Gas Pipeline Rate and Refund Report filings:

Filings Instituting Proceedings

Docket Numbers: RP23-186-000.

Applicants: Discovery Gas Transmission LLC.

Description: § 4(d) Rate Filing: 2023 HMRE Surcharge Filing to be effective 1/1/2023.

Filed Date: 11/15/22.

Accession Number: 20221115-5001.

Comment Date: 5 p.m. ET 11/28/22.

Docket Numbers: RP23-187-000.

Applicants: East Tennessee Natural Gas, LLC.

Description: § 4(d) Rate Filing: Negotiated Rates—Nov 2022 Clean-up Filing to be effective 12/15/2022.

Filed Date: 11/15/22.

Accession Number: 20221115-5008.

Comment Date: 5 p.m. ET 11/28/22.

Docket Numbers: RP23-188-000.

Applicants: East Tennessee Natural Gas, LLC.

Description: § 4(d) Rate Filing: Negotiated Rate—Perm Release Oglethorpe to Eastman to be effective 11/15/2022.

Filed Date: 11/15/22.

Accession Number: 20221115-5025.

Comment Date: 5 p.m. ET 11/28/22.

Docket Numbers: RP23-189-000.

Applicants: Sierrita Gas Pipeline LLC.

Description: Compliance filing: Sierrita Opertional Purchase and Sales Report 2022 to be effective N/A.

Filed Date: 11/15/22.

Accession Number: 20221115-5053.

Comment Date: 5 p.m. ET 11/28/22.

Docket Numbers: RP23-190-000.

Applicants: Midwestern Gas Transmission Company.

Description: § 4(d) Rate Filing: Revision to Part 8, Section 25 to be effective 12/16/2022.

Filed Date: 11/15/22.

Accession Number: 20221115-5085.

Comment Date: 5 p.m. ET 11/28/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 15, 2022.
Debbie-Anne A. Reese,
Deputy Secretary.

[FR Doc. 2022-25557 Filed 11-22-22; 8:45 am]

BILLING CODE 6717-01-P